DEPARTMENT OF THE INTERIOR

National Indian Gaming Commission

25 CFR Part 502

Definition for Electronic or Electromechanical Facsimile

AGENCY: National Indian Gaming Commission, Interior.

ACTION: Notice of Extension of Comment Period.

SUMMARY: The National Indian Gaming Commission (“NIGC”) announces the extension of the comment period on the proposed rule concerning the Definition for Electronic or Electromechanical Facsimile. The proposed rule was published in the Federal Register on October 24, 2007 (72 FR 60482). The NIGC is extending the comment period to March 9, 2008.

DATES: Submit comments on the proposed Definition for Electronic or Electromechanical Facsimile on or before March 9, 2008.

ADDRESSES: Mail comments to “Comments on Electronic or Electromechanical Facsimile Definition,” National Indian Gaming Commission, Suite 9100, 1441 L Street, NW., Washington, DC 20005, Attn: Penny Coleman, Acting General Counsel. Comments may be transmitted by facsimile to 202-632-0045. Comments may be submitted electronically to facsimile_definition@nigc.gov. Comments may also be submitted through the Federal eRulemaking portal at www.regulations.gov.

FOR FURTHER INFORMATION CONTACT: John R. Hay, Office of General Counsel, at 202-632-7003 (this is not a toll free call).

SUPPLEMENTARY INFORMATION: Congress established the National Indian Gaming Commission under the Indian Gaming Regulatory Act of 1988 (25 U.S.C. 2701-21) (“IGRA”) to regulate gaming on Indian lands. The NIGC issued a proposed rule revising the definition for electronic or electromechanical facsimile, which was published in the Federal Register on October 24, 2007 (72 FR 60482). The proposed rule provided for public comments to be submitted by December 10, 2007. The NIGC extended the comment period to January 24, 2008, in the Notice of Extension of Comment Period, published in the Federal Register on November 16, 2007 (72 FR 64545). The NIGC is again extending the comment period on the Definition for Electronic or Electromechanical Facsimile to March 9, 2008. Comments should be submitted on or before March 9, 2008.

Dated: January 11, 2008.
Philip N. Hogen,
Chairman, National Indian Gaming Commission.
Norman H. DesRosiers,
Commissioner, National Indian Gaming Commission.

[FR Doc. E8-760 Filed 1-16-08; 8:45 am]

BILLING CODE 7565-01-P